INTERNATIONAL TRADE COMMISSION

[Investigation Nos. 701-TA-593 and 594 and 731-TA-1402 and 1404 (Final)]

Large Diameter Welded Pipe From China and India; Determinations

On the basis of the record ¹ developed in the subject investigations, the United States International Trade Commission (“Commission”) determines,² pursuant to the Tariff Act of 1930 (“the Act”), that an industry in the United States is materially injured by reason of imports of carbon and alloy (other than stainless) steel large diameter welded line pipe from India provided for in subheadings 7305.11.10, 7305.11.50, 7305.12.10, 7305.12.50, 7305.19.10, and 7305.19.50 of the Harmonized Tariff Schedule of the United States (“HTSUS”) that have been found by the U.S. Department of Commerce (“Commerce”) to be sold in the United States at less than fair value (“LTFV”) and subsidized by the government of India. The Commission also determines that an industry in the United States is threatened with material injury by reason of LTFV imports of carbon and alloy (other than stainless) steel large diameter welded line pipe from China. Further, the Commission terminates the countervailing duty investigation on carbon and alloy (other than stainless) steel large diameter welded line pipe from China.

¹ The record is defined in sec. 207.2(f) of the Commission's Rules of Practice and Procedure (19 CFR 207.2(f)).

² Commissioner Meredith M. Broadbent dissenting with respect to the affirmative determinations regarding imports of carbon and alloy (other than stainless) steel large diameter welded line pipe from China and India. Commissioner Jason E. Kearns voting in the affirmative with respect to carbon and alloy (other than stainless) steel large diameter welded pipe from China and India.

The Commission also determines that an industry in the United States is materially injured by reason of imports of carbon and alloy (other than stainless) steel large diameter welded structural pipe from China provided for in subheadings 7305.31.40, 7305.31.60, 7305.39.10, and 7305.39.50 of the HTS that have been found by Commerce to be sold in the United States at LTFV and subsidized by the government of China. In addition, the Commission terminates the antidumping and countervailing duty investigations on carbon and alloy (other than stainless) steel large diameter welded structural pipe from India.

Finally, the Commission determines that an industry in the United States is not materially injured or threatened with material injury by reason of imports of stainless steel large diameter welded pipe from China and India provided for in subheading 7305.31.60 of the HTSUS, that have been found by Commerce to be sold in the United States at LTFV, and to be subsidized by the governments of China and India.

Background

The Commission, pursuant to sections 705(b) and 735(b) of the Act (19 U.S.C. 1671d(b) and 19 U.S.C. 1673d(b)), instituted these investigations effective January 17, 2018, following receipt of a petition filed with the Commission and Commerce by American Cast Iron Pipe Company (Birmingham, Alabama), Berg Steel Pipe Corp. (Panama City, Florida), Berg Spiral Pipe Corp. (Mobile, Alabama), Dura-Bond Industries, Inc. (Export, Pennsylvania), Skyline Steel (Newington, Virginia), and Stupp Corporation (Baton Rouge, Louisiana). The final phase of the investigations was scheduled by the Commission following notification of preliminary determinations by Commerce that imports of large diameter welded pipe from China, India, Korea, and Turkey were subsidized within the meaning of section 703(b) of the Act (19 U.S.C. 1671b(b)) and that imports of large diameter welded pipe from Canada, China, Greece, India, Korea, and Turkey were being sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on September 6, 2018 (83 FR 45279).³ The hearing was held in Washington, DC, on November 6, 2018, and all persons who requested the opportunity were permitted to appear in person or by counsel.

³ Due to the lapse in appropriations and ensuing cessation of Commission operations, all import injury investigations conducted under authority of Title VII of the Tariff Act of 1930 accordingly have been tolled pursuant to 19 U.S.C. 1671d(b)(2), 1673d(b)(2).

The Commission made these determinations pursuant to sections 705(b) and 735(b) of the Act (19 U.S.C. 1671d(b) and 19 U.S.C. 1673d(b)). It completed and filed its determinations in these investigations on January 30, 2019. The views of the Commission are contained in USITC Publication 4859 (January 2019), entitled Large Diameter Welded Pipe from China and India, Investigation Nos. 701-TA-593 and 594 and 731-TA-1402 and 1404 (Final).

By order of the Commission.
Issued: January 30, 2019.
Lisa Barton,
Secretary to the Commission.

[FR Doc. 2019-01024 Filed 2-4-19; 8:45 am]

BILLING CODE P